DEPARTMENT OF ENERGY

Federal Energy Regulatory Commission

[Docket No. RP98-40-000]

Panhandle Eastern Pipeline Company; Notice of Informal Settlement Conference

:April 28, 2000.

On March 13 and 28, 2000, the Kansas Corporation Commission (KCC) sponsored two informal settlement conferences for the purpose of initiating settlement discussions potentially leading to a resolution of all the Kansas ad valorem proceedings. During the March 28 conference, the participants agreed that settlement negotiations among all interested parties should be pursued separately for each pipeline involved with the Kansas ad valorem tax refund issues.

The participants interested in the Panhandle Eastern Pipe Line Company docket also reached a consensus that the informal settlement conference agreed upon should be notices by the Secretary of the Federal Energy Regulatory Commission (Commission) and that the Commission's settlement regulations apply to the informal settlement process. Consistent with the previous two settlement conferences, the Director of the Commission's Dispute Resolution Service and the KCC will attend the conference and facilitate the settlement negotiations.

The informal settlement conference will be held on May 24, 2000, at the offices of Shook, Hardy & Bacon, 1 Kansas City Place, 1200 Main Street, Kansas City, Missouri. The conference will begin at 10:00 a.m. To insure that the facilities are adequately sized all parties that plan to attend the settlement conference are requested to contact John McNish at 785 271-3218 or by email at j.mcnish@kcc.state.ks.us, or Cynthia King at cking@shb.com by May 11, 2000.

All interested parties in the above dockets are requested to attend the informal settlement conference. If a party has any questions respecting the conference, please call Richard Miles, the Director of the Dispute Resolution Service. His telephone number is 1 877 FERC ADR (337-2237) or 202-208-0702 and his e-mail address is richard.miles@ferc.fed.us.

Linwood A. Watson, Jr.,
Acting Secretary.

[FR Doc. 00-10994 Filed 5-2-00; 8:45 am]

BILLING CODE 6717-01-M